DEPARTMENT OF COMMERCE

National Oceanic and Atmospheric Administration

[XRIN: 0648-XA30]

Fisheries of the South Atlantic; Southeastern Data, Assessment, and Review (SEDAR); greater amberjack; red snapper.

AGENCY: National Marine Fisheries Service (NMFS), National Oceanic and Atmospheric Administration (NOAA), Commerce.

ACTION: Notice of SEDAR Workshops for South Atlantic greater amberjack and red snapper.

SUMMARY: The SEDAR assessments of the South Atlantic stocks of greater amberjack and red snapper will consist of a series of three workshops: a Data Workshop, an Assessment Workshop, and a Review Workshop. This is the fifteenth SEDAR. See SUPPLEMENTARY INFORMATION.

DATES: The Data Workshop will take place July 9-13, 2007; the Assessment Workshop will take place October 22-26, 2007; the Review Workshop will take place January 28-February 1, 2008. See SUPPLEMENTARY INFORMATION.

ADDRESSES: The Data Workshop will be held at the Francis Marion Hotel, 387 King Street, Charleston, SC 29103; telephone: (843) 722-0600. The Assessment Workshop will be held at the Center for Coastal Fisheries and Habitat Research Beaufort Laboratory, 101 Piver's Island Road, Beaufort, NC 28516. The Review Workshop will be held at the Holiday Inn Brownstone, 1707 Hillsborough Street, Raleigh, NC 27605; telephone: (919) 828-0811.

FOR FURTHER INFORMATION CONTACT: John Carmichael, SEDAR Coordinator, 4055 Faber Place Drive, Suite 201, North Charleston, SC 29405; telephone: (843) 571-4366.

SUPPLEMENTARY INFORMATION: The Gulf of Mexico, South Atlantic, and Caribbean Fishery Management Councils, in conjunction with NOAA Fisheries and the Atlantic and Gulf States Marine Fisheries Commissions have implemented the SEDAR process, a multi-step method for determining the status of fish stocks in the Southeast Region. SEDAR includes three workshops: (1) Data Workshop, (2) Stock Assessment Workshop and (3) Review Workshop. The product of the Data Workshop is a data report which compiles and evaluates potential datasets and recommends which datasets are appropriate for assessment analyses. The product of the Stock Assessment Workshop is a stock assessment report which describes the fisheries, evaluates the status of the stock, estimates biological benchmarks, projects future population conditions, and recommends research and monitoring needs. The assessment is independently peer reviewed at the Review Workshop. The product of the Review Workshop is a Consensus Summary documenting Panel opinions regarding the strengths and weaknesses of the stock assessment and input data. Participants for SEDAR Workshops are appointed by the Gulf of Mexico, South Atlantic, and Caribbean Fishery Management Councils and NOAA Fisheries Southeast Regional Office and Southeast Fisheries Science Center. Participants include data collectors and database managers; stock assessment scientists, biologists, and researchers; constituency representatives including fishermen, environmentalists, and NGO's; International experts; and staff of Councils, Commissions, and state and federal agencies.

SEDAR 15 Workshop Schedule:

July 9-13, 2007; SEDAR 15 Data Workshop

July 9, 2007: 1 p.m. - 8 p.m.; July 3-12, 2007: 8 a.m. - 8 p.m.; July 13, 2007: 8 a.m. - 1 p.m.

An assessment data set and associated documentation will be developed during the Data Workshop. Participants will evaluate all available data and select appropriate sources for providing information on life history characteristics, catch statistics, discard estimates, length and age composition, and fishery dependent and fishery independent measures of stock abundance.

October 22-26, 2007; SEDAR 15 Assessment Workshop

October 22, 2007: 1 p.m. - 8 p.m.; October 23-25, 2007: 8 a.m. - 8 p.m.; October 26, 2007: 8 a.m. - 1 p.m.

Using datasets provided by the Data Workshop, participants will develop population models to evaluate stock status, estimate population benchmarks and Sustainable Fisheries Act criteria, and project future conditions. Participants will recommend the most appropriate methods and configurations for determining stock status and estimating population parameters. Participants will prepare a workshop report, compare and contrast various assessment approaches, and determine whether the assessments are adequate for submission to the review panel.

January 28-February 1, 2008; SEDAR 15 Review Workshop

January 28, 2008: 1 p.m. - 8 p.m.; January 29-31, 2008: 8 a.m. - 8 p.m.; February 1, 2008: 8 a.m. - 1 p.m.

The Review Workshop is an independent peer review of the assessment developed during the Data and Assessment Workshops. Workshop Panelists will review the assessment and document their comments and recommendations in a Consensus Summary.

Special Accommodations

These meetings are physically accessible to people with disabilities. Requests for sign language interpretation or other auxiliary aids should be directed to the Council office (see FOR FURTHER INFORMATION CONTACT) at least 10 business days prior to each workshop.

Dated: May 11, 2007.
Tracey L. Thompson,
Acting Director, Office of Sustainable Fisheries, National Marine Fisheries Service.

[FR Doc. E7-9374 Filed 5-15-07; 8:45 am]

BILLING CODE 3510-22-S